DEPARTMENT OF HEALTH AND HUMAN SERVICES

Office of the National Coordinator for Health Information Technology; Health Information Technology; HIT Policy Committee: Request for Comment Regarding the Stage 3 Definition of Meaningful Use of Electronic Health Records (EHRs)

AGENCY: Health Information Technology (HIT) Policy Committee, Office of the National Coordinator for Health Information Technology (ONC), Department of Health and Human Services (HHS).

ACTION: Notice.

SUMMARY: This notice announces the HIT Policy Committee's request for comments on its draft recommendations for meaningful use Stage 3.

DATES: To be assured consideration, electronic comments must be received no later than 11:59p.m. ET on January 14, 2013.

ADDRESSES: Because of staff and resource limitations, we are only accepting comments electronically through http://www.regulations.gov. Follow the “Submit a comment” instructions. Attachments should be in Microsoft Word or Excel, WordPerfect, or Adobe PDF. Please do not submit duplicative comments.

FOR FURTHER INFORMATION CONTACT: MacKenzie Robertson, Office of the National Coordinator, Patriots Plaza III, 355 E Street SW., Washington, DC 20201, (202) 205-8089, mackenzie.robertson@hhs.gov.

SUPPLEMENTARY INFORMATION: The Request for Comment can be found on the ONC Web site at http://www.healthit.gov/buzz-blog/.

Inspection of Public Comments: All comments received before the close of the comment period will be available for public inspection, including any personally identifiable or confidential business information that is included in a comment. Please do not include anything in your comment submission that you do not wish to share with the general public. Such information includes, but is not limited to: A person's social security number; date of birth; driver's license number; state identification number or foreign country equivalent; passport number; financial account number; credit or debit card number; any personal health information; or any business information that could be considered to be proprietary. We will post all comments received before the close of the comment period on http://www.regulations.gov. Follow the search instructions on that Web site to view public comments.

Dated: November 14, 2012.
MacKenzie Robertson,
FACA Program Lead, Office of Policy and Planning, Office of the National Coordinator for Health Information Technology.

[FR Doc. 2012-28584 Filed 11-23-12; 8:45 am]

BILLING CODE 4150-45-P